POSTAL REGULATORY COMMISSION

[Docket No. MC2012-26; Order No. 1368]

Post Office Box Service Enhancements

AGENCY: Postal Regulatory Commission.

ACTION: Notice.

SUMMARY: This notice establishes a docket to provide the Postal Service with a mechanism for an elective filing concerning enhanced services for Post Office Box service. It also addresses the status of a related Complaint proceeding.

DATES: Postal Service's elective filing due: July 9, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION:

Table of Contents

I. Introduction

II. Notice of Filings

III. Ordering Paragraphs

I. Introduction

In Docket No. C2012-1, the Associated Mail and Parcel Centers, the National Alliance of Retail and Ship Centers, and 11 additional organizations (Complainants) jointly filed a complaint with the Commission concerning the Postal Service's introduction of enhanced services that it offers to post office box customers at certain retail locations.¹ The Postal Service filed a motion to dismiss the Complaint.²

¹ Complaint Regarding Postal Service Offering Enhanced Services Product for Competitive PO Boxes, March 15, 2012 (Complaint).

² Motion of the United States Postal Service to Dismiss Complaint, April 4, 2012 (Motion to Dismiss).

In Order No. 1366, the Commission denied the Motion to Dismiss as to Complainants' claims under sections 3633 and 3642.³ Because it is not clear whether the Complaint raises material issues of law or fact, and to efficiently and effectively fulfill its statutory responsibilities while affording the Complainants and the Postal Service a forum to air their views, the Commission indicated that it would establish this docket as a placeholder for an elective filing by the Postal Service under 39 CFR 3020.30 concerning its enhanced services for Post Office Box service. Id. at 14. The Commission ordered that the Complaint be held in abeyance until July 9, 2012, to permit the Postal Service to make the elective filing. Further, it noted that the Complaint would be held in abeyance during the pendency of proceedings in this docket.

³ Docket No. C2012-1, Order No. 1366, Order on Motion to Dismiss Holding Complaint in Abeyance Pending Further Proceeding, June 13, 2012, at 15.

II. Notice of Filings

The Commission establishes Docket No. MC2012-26 to consider the Postal Service's filing under 39 CFR 3020.30. If the Postal Service elects to make that filing, the Commission will issue an order establishing procedures and appointing a Public Representative.

III. Ordering Paragraphs

It is ordered:

1. The Commission establishes Docket No. MC2012-26.

2. The Postal Service's elective filing is due on or before July 9, 2012.

3. The Secretary shall arrange for publication of this order in the Federal Register.

By the Commission.
Shoshana M. Grove,
Secretary.

[FR Doc. 2012-14902 Filed 6-18-12; 8:45 am]

BILLING CODE 7710-FW-P